DEPARTMENT OF HEALTH AND HUMAN SERVICES

Announcement of Call for Collaborating Partners for National Women's Health Week

AGENCY: Office of the Secretary, Office of the Assistant Secretary for Health, Office on Women's Health, Department of Health and Human Services.

ACTION: Notice.

SUMMARY: The U.S. Department of Health and Human Services (HHS), Office on Women's Health (OWH) invites public and private sector women's health-related organizations to participate in National Women's Health Week (NWHW) as collaborating partners to help create awareness of women's health issues and educate women about improving their health and preventing disease.

DATES: Representatives of women's health organizations should submit expressions of interest by April 13, 2012.

ADDRESSES: Expressions of interest, comments, and questions may be submitted by electronic mail to jill.wasserman1@hhs.gov or by regular mail to Jill Wasserman, Office on Women's Health, Department of Health and Human Services, 200 Independence Avenue SW., Room 733E, Washington, DC 20201; or via fax to (202) 690-7172.

FOR FURTHER INFORMATION CONTACT: Jill Wasserman on (202) 205-1952.

SUPPLEMENTARY INFORMATION: The OWH was established in 1991 to improve the health of American women by advancing and coordinating a comprehensive women's health agenda throughout HHS. The office fulfills its mission through competitive contracts and grants to an array of community, academic, and other organizations at the national and community levels. National educational campaigns provide information about the important steps women can take to improve and maintain their health, such as NWHW.

NWHW is a week-long health observance that kicks off on Mother's Day, Sunday, May 13 and ends Saturday, May 19, 2012. NWHW seeks to partner with public sector women's health-related organizations to help educate women about improving their physical and mental health and preventing disease. With the 2012 theme “It's Your Time,” OWH will focus on encouraging women to make their health a top priority and take simple steps for a longer, healthier, and happier life. For more information about National Women's Health Week, please visit http://www.womenshealth.gov/whw.

Dated: March 9, 2012.
Nancy C. Lee,
Deputy Assistant Secretary for Health—Women's Health.

[FR Doc. 2012-6286 Filed 3-14-12; 8:45 am]

BILLING CODE 4150-33-P